ENVIRONMENTAL PROTECTION AGENCY

[ER-FRL-6658-7]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 02, 2004 (69 FR 17403).

Draft EISs

ERP No. D-FHW-F40425-OH Rating EC1, US-24 Transportation Project, Improvements between Napoleon to Toledo, Funding, Lucas and Henry Counties, OH.

Summary: EPA expressed an environmental concern about impacts to approximately 7 acres of wetlands and recommends that the secondary impacts at planned intersections be addressed.

ERP No. D-FRA-K59004-CA Rating EC2, Los Angeles-To-San Diego (LOSSAN) Rail Corridor, Proposed Rail Corridor Improvement Studies to Increase Intercity Travel for Faster, Safer and Reliable Passenger Rail System, Los Angeles, Orange, and San Diego Counties, CA.

Summary: EPA expressed concerns with the analysis of direct, indirect, and cumulative impacts to endangered species, coastal resources, water quality and air quality, and the integration of the proposed improvements with adjacent land-use and conservation planning efforts.

ERP No. D-IBR-J39032-00 Rating EC2, Operation of Flaming Gorge Dam Colorado River Storage Project, To Protect and Assist in Recovery of Populations and Designated Critical Habitat of Four Endangered Fishes: Bonytail, Colorado Pikeminnow, Humpback Chub and Razorback Sucker, Green River, UT and WY.

Summary: EPA expressed concerns that the Preferred Alternative may adversely affect other wildlife and their habitats. EPA also expressed concerns over the uncertainties surrounding both the impacts of the proposed management actions and the adaptive management changes that may be necessitated in the future. In addition, EPA expressed concerns that only one alternative was evaluated besides the No Action alternative, and suggested that other alternatives be evaluated.

ERP No. DS-AFS-L65344-AK Rating EC2, Emerald Bay Timber Sale, Implementation, Additional Information on the Potential Effects of the Project Alternatives, Ketchikan-Misty Fiords Ranger District, Tongass National Forest, AK.

Summary: EPA expressed environmental concerns related to the range of alternatives, as well as a need for information related to government-to-government consultation with Alaskan Native Tribal Governments.

Final EISs

ERP No. F-AFS-L65463-OR, 18 Fire Recovery Project, Salvaging Dead Trees, Reforesting 1,936 Acres with Ponderosa Pine Seedling and Closing/Decommissioning Roads, Deschutes National Forest, Bend/Fort Rock Ranger District, Deschutes County, OR.

Summary: EPA expressed lack of objections and supports the measures to reduce the road density in the project area.

ERP No. F-COE-E36183-FL, Picayune Strand Restoration (formerly Southern Golden Gate Estates Ecosystem Restoration), Comprehensive Everglades Restoration Plan, Implementation, Collier County, FL.

Summary: EPA continues to support the specific objectives of this proposal as well as the related environmental goals of the Comprehensive Everglades Restoration Project. EPA noted that long-term monitoring will be an on-going responsibility of the Interagency Operational Team and EPA will continue to participate actively with its state/federal stakeholders.

Dated: December 14, 2004.
Robert W. Hargrove,
Director, NEPA Compliance Division, Office of Federal Activities.

[FR Doc. 04-27674 Filed 12-16-04; 8:45 am]

BILLING CODE 6560-50-P